ENVIRONMENTAL PROTECTION AGENCY

[FRL-7568-4]

Proposed Administrative Order on Consent Issued Pursuant to Sections 7003(a) and 3013(a) of the Resource Conservation and Recovery Act, In Re: the Former Medallic Art Facility, Danbury, CT

AGENCY: Environmental Protection Agency.

ACTION: Notice of proposed administrative settlement and request for public comment.

SUMMARY: In accordance with Section 7003(d) of the Resource Conservation and Recovery Act (RCRA), 42 U.S.C. 6901-6987, notice is hereby given of a proposed administrative order on consent for remediation of the former Medallic Art facility located in Danbury, Connecticut. The settling party is the Fairway Asset Management II, L.L.C. (Respondent), 52 Deer Hill Avenue, P.O. Box 1242 Danbury, CT 06813. The U.S. Environmental Protection Agency—Region I (EPA) is proposing to enter into this administrative order on consent to address claims under the Resource Conservation and Recovery Act (“RCRA”),42 U.S.C. 6901 et. seq., as amended by the Hazardous and Solid Waste Amendments of 1984. Notice is being published to inform the public of the proposed settlement and of the opportunity to comment. This settlement, embodied in a RCRA Administrative Order on Consent (“AOC”), requires Respondent to adequately monitor contaminated groundwater on-site; propose an interim remedy to control or abate the spread of contamination; close a contaminated impoundment on-site; implement a groundwater recovery system; and monitor its effectiveness. The proposed order will be issued pursuant to Sections 7003(a) and 3013(a) of the Resource Conservation and Recovery Act, 42 U.S.C. 6973(a) and 6934(a).

For thirty (30) days following the date of publication of this notice, the EPA will receive written comments relating to the settlement. The EPA will consider all comments received and may modify or withdraw its consent to the settlement if comments received disclose facts or considerations which indicate that the settlement is inappropriate, improper, or inadequate.

DATES: Comments must be submitted on or before November 3, 2003.

ADDRESSES: The proposed settlement and administrative record is available for public inspection at the Danbury Public Library, 170 Main Street, Danbury, CT 06810, (203) 797-4505; and at the EPA Records Center, 1 Congress Street, Boston, MA 02114-2023. Please call the EPA Records Center at (617) 918-1440 to schedule an appointment. A copy of the proposed settlement may be obtained from Kristin Balzano, U.S. Environmental Protection Agency, Region I, 1 Congress Street, Suite 1100 (SES), Boston, MA 02114-2023 (Telephone Number: 617-918-1772). Comments should reference the former Medallic Art facility in Danbury, Connecticut, EPA Docket No. RCRA 01-2002-0030 and should be addressed to Kristin Balzano, U.S. Environmental Protection Agency, Region I, 1 Congress Street, Suite 1100 (SES), Boston, MA 02114-2023.

The EPA's response to any comments received will be available for public inspection at the EPA Records Center, 1 Congress Street, Boston, MA 02114-2023, Telephone Number: (617) 918-1440.

FOR FURTHER INFORMATION CONTACT: Joshua Secunda, U.S. Environmental Protection Agency, Region I, 1 Congress Street, Suite 1100 (SEL), Boston, MA 02114-2023, Telephone Number: (617) 918-1736.

SUPPLEMENTARY INFORMATION: In accordance with the Resource Conservation and Recovery Act (“RCRA”), 42 U.S.C. 6901 et seq., notice is hereby given of a proposed administrative order on consent pursuant to Sections 7003(a) and 3013(a) of RCRA, 42 U.S.C. 6973(a) and 6934(a) concerning the former Medallic Art facility in Danbury, CT. The settlement was approved by EPA Region I, subject to review by the public pursuant to this Notice. EPA will receive written comments relating to this settlement for thirty (30) days from the date of publication of this Notice.

Dated: September 23, 2003.
Susan Studlien,
Acting Director, Office of Site Remediation and Restoration, EPA—Region I.

[FR Doc. 03-25138 Filed 10-2-03; 8:45 am]

BILLING CODE 6560-50-P